DEPARTMENT OF LABOR

Employment and Training Administration

[TA-W-59,533]

Yakima Resources, LLC; Yakima, Washington; Notice of Negative Determination on Reconsideration

On September 12, 2006, the Department issued an Affirmative Determination Regarding Application for Reconsideration for the workers and former workers of Yakima Resources, LLC, Yakima, Washington (the subject firm). The Department's Notice of Affirmative Determination was published in the Federal Register on September 21, 2006 (71 FR 55219). Workers produce plywood.

The petition for the workers of the subject firm was denied because there was no shift of production and the “contributed importantly” group eligibility requirement of section 222 of the Trade Act of 1974, as amended, was not met. The “contributed importantly” test is generally demonstrated through increased imports by the subject firm or its customers. The investigation revealed neither a shift of production abroad nor an increase in imports of plywood during the relevant period.

In the request for reconsideration, the Western Council of Industrial Workers, United Brotherhood of Carpenters and Joiners of America (the Union) alleged that the Department had failed to investigate increased imports of oriented strand board (OSB), which is like and directly competitive with plywood.

During the reconsideration investigation, the Department asked both the subject firm and the subject firm's sole customer of plywood whether they had increased import purchases of OSB. Both respondents answered in the negative.

In order for the Department to issue a certification of eligibility to apply for Alternative Trade Adjustment Assistance (ATAA), the subject worker group must be certified eligible to apply for Trade Adjustment Assistance (TAA). Since the subject workers are denied eligibility to apply for TAA, the workers cannot be certified eligible for ATAA.

Conclusion

After careful reconsideration, I affirm the original notice of negative determination of eligibility to apply for worker adjustment assistance for workers and former workers of Yakima Resources, LLC, Yakima, Washington.

Signed at Washington, DC, this 28th day of September, 2006.
Elliott S. Kushner,
Certifying Officer, Division of Trade Adjustment Assistance.

[FR Doc. E6-17106 Filed 10-13-06; 8:45 am]

BILLING CODE 4510-30-P